DEPARTMENT OF ENERGY

Federal Energy Regulatory Commission

[Docket No. GT02-38-008]

Northern Natural Gas Company; Notice of Compliance Filing

December 18, 2003.

Take notice that on December 15, 2003, Northern Natural Gas Company (Northern), tendered for filing in its FERC Gas Tariff, Fifth Revised Volume No. 1 the following tariff sheets, with an effective date of February 23, 2003:

3 Substitute Third Revised Sheet No. 285

2 Substitute Original Sheet No. 285B

Northern states that it is filing the above-referenced tariff sheets in compliance with the Commission's November 18, 2003 Order, relating to creditworthiness tariff provisions.

Northern further states that copies of the filing have been mailed to each of its customers and interested State Commissions.

Any person desiring to protest said filing should file a protest with the Federal Energy Regulatory Commission, 888 First Street NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00637 Filed 12-24-03; 8:45 am]

BILLING CODE 6717-01-P